DEPARTMENT OF AGRICULTURE

Forest Service

Eastern Idaho Resource Advisory Committee; Caribou-Targhee National Forest, Idaho Falls, ID

AGENCY: Forest Service, USDA.

ACTION: Notice of meeting.

SUMMARY: Pursuant to the authorities in the Federal Advisory Committee Act (Pub. L. 92-463) and under the Secure Rural Schools and Community Self-Determination Act of 2000 (Pub. L. 106-393) the Caribou-Targhee National Forests' Eastern Idaho Resource Advisory Committee will meet Thursday, March 9, 2006 in Idaho Falls for a business meeting. The meeting is open to the public.

DATES: The business meeting will be held on March 9, 2006 from 10 a.m. to 1 p.m.

ADDRESSES: The meeting location is the Caribou-Targhee National Forest Headquarters Office, 1405 Hollipark Drive, Idaho Falls, Idaho 83402.

FOR FURTHER INFORMATION CONTACT: Larry Timchak, Caribou-Targhee National Forest Supervisor and Designated Federal Officer, at (208) 524-7500.

SUPPLEMENTARY INFORMATION: The business meeting on March 9, 2006, begins at 10 a.m., at the Caribou-Targhee National Forest Headquarters Office, 1405 Hollipark Drive, Idaho Falls, Idaho. Agenda topics will include reviewing project proposals that have been sent in for 2006 fiscal year and making decisions on those projects whether to invite to second meeting or dismiss project.

Dated: January 24, 2006.
Lawrence A. Timchak,
Caribou-Targhee Forest Supervisor.

[FR Doc. 06-873 Filed 1-30-06; 8:45 am]

BILLING CODE 3410-11-M